DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Annual Wholesale Trade Survey.

OMB Control Number: 0607-0195.

Form Number(s): SA-42, SA-42A, SA-42(MSBO), SA-42A(MSBO), SA-42(AGBR), SA-42A(AGBR).

Type of Request: Reinstatement, with change, of an expired collection.

Number of Respondents: 7,210.

Average Hours per Response: 30 minutes.

Burden Hours: 3,663.

Needs and Uses: The Annual Wholesale Trade Survey (AWTS) covers employer firms with establishments located in the United States and classified in wholesale trade as defined by the North American Industry Classification System (NAICS). This sector comprises two main types of wholesalers: (1) Merchant wholesalers that sell goods on their own account (including sales offices and sales branches, except retail stores, maintained by manufacturing, refining, or mining enterprises apart from their plants or mines for the purpose of marketing their products) and (2) electronic markets, agents, and brokers that arrange sales for purchases for others generally for a commission or fees.

Respondents are separated into three classifications: (1) Merchant wholesale establishments, excluding manufacturers' sales branches and offices; (2) manufacturers' sales branches and offices; and (3) agents, brokers, and business-to-business electronic markets. The survey requests firms to provide annual sales, annual e-commerce sales, year-end inventories held inside or outside of the United States, method of inventory valuation, total operating expenses, purchases, and, for selected industries, commissions, and sales on their own account. These data are collected to provide a sound statistical basis for the formation of policy by various government agencies, as well as to serve as a benchmark for the estimates compiled from the Monthly Wholesale Trade Survey [OMB No. 0607-0190]. Results will be available, at the United States summary level, for selected wholesale trade, and/or manufacturer's sales branches and offices and agents, brokers, representatives and electronic markets, industries approximately fifteen months after the end of the reference year.

Every 5 years, AWTS requests data on detailed operating expenses. During the next three years, detailed operating expenses will not be collected. The last time AWTS collected detailed operating expenses was in 2013 for the 2012 survey year. The plan is to reinstate these questions in 2018 as part of the 2017 AWTS data collection. Estimates are published based on NAICS, which has been widely adopted throughout both the public and private sectors.

The Bureau of Economic Analysis (BEA) uses the data to estimate the change in private inventories component of gross domestic product (GDP) and output in both the benchmark and annual input-output (I-O) accounts and GDP by industry. Data on sales taxes, which are collected on this survey quinquennially, are also used to prepare estimates of GDP by industry and to derive industry output for the I-O accounts. Data on detailed operating expenses, which will now be collected on this survey quinquennially, are used to produce national estimates of value added, gross output, and intermediate inputs and serve as a benchmark for the annual industry accounts, which provide the control totals for the GDP-by-state accounts.

The Bureau of Labor Statistics uses the data as input to its Producer Price Indexes and in developing productivity measurements. Private businesses use the estimates in computing business activity indexes.

Other government agencies and businesses use the data to satisfy a variety of public and business needs such as economic market analysis, company performance, and forecasting future demands.

In an effort to migrate our economic program toward online reporting and reduce paper usage, the AWTS encourages respondents to use the option of returning their data via the Census Bureau's online reporting system (Centurion). The Centurion system is designed to be secure and flexible for users. It allows respondents to complete and file in one session or to save and return over multiple sessions.

For the first time during the 2013 processing year, our initial mailing contained a letter and flyer that provided instructions on how to report data and receive help online, and did not include a paper questionnaire.

Affected Public: Business or other for-profit.

Frequency: Annually.

Respondent's Obligation: Mandatory.

Legal Authority: Title 13, United States Code, Sections 182, 224, and 225.

This information collection request may be viewed at www.reginfo.gov. Follow the instructions to view Department of Commerce collections currently under review by OMB.

Written comments and recommendations for the proposed information collection should be sent within 30 days of publication of this notice to OIRA_Submission@omb.eop.gov or fax to (202) 395-5806.

Dated: January 27, 2015.
Glenna Mickelson,
Management Analyst, Office of the Chief Information Officer.

[FR Doc. 2015-01820 Filed 1-29-15; 8:45 am]

BILLING CODE 3510-07-P